DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of March 20, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: November 2, 2017.
Roy E. Wright,
Deputy Associate Administrator for Insurance and Mitigation, Department of Homeland Security, Federal Emergency Management Agency.

Community | Community map repository address
Kossuth County, Iowa and Incorporated Areas
Docket No.: FEMA-B-1667
City of Algona | City Hall, 112 West Call Street, Algona, IA 50511.
City of Bancroft | City Hall, 105 East Ramsey Street, Bancroft, IA 50517.
City of Fenton | City Hall, 611 Maple Street, Fenton, IA 50539.
City of Lakota | City Hall, 204 3rd Street, Lakota, IA 50451.
City of Titonka | City Hall, 543 Dieckman Street Northeast, Titonka, IA 50480.
City of Wesley | City Hall, 105 2nd Street South, Wesley, IA 50483.
City of Whittemore | City Hall, 315 4th Street, Whittemore, IA 50598.
Unincorporated Areas of Kossuth County | Kossuth County Courthouse, 114 West State Street, Algona, IA 50511.
Vernon Parish, Louisiana and Incorporated Areas
Docket No.: FEMA-B-1663
City of Leesville | City Hall, 101 West Lee Street, Leesville, LA 71446.
Town of Hornbeck | Town Hall, 939 Hammond Street, Hornbeck, LA 71439.
Town of New Llano | City Hall, 109 Stanton Street, New Llano, LA 71461.
Unincorporated Areas of Vernon Parish | Vernon Parish Public Works Department, 602 Alexandria Highway, Leesville, LA 71446.
Village of Anacoco | Village Hall, 4973 Main Street, Anacoco, LA 71403.

[FR Doc. 2017-26339 Filed 12-6-17; 8:45 am]

BILLING CODE 9110-12-P